DEPARTMENT OF COMMERCE

National Telecommunications and Information Administration

Recruitment of First Responder Network Authority Board Members

AGENCY: National Telecommunications and Information Administration, U.S. Department of Commerce.

ACTION: Notice.

SUMMARY: The National Telecommunications and Information Administration (NTIA) issues this Notice to initiate the annual process to seek expressions of interest from individuals who would like to serve on the Board of the First Responder Network Authority (FirstNet Authority Board or Board). The terms of 11 of the 12 non-permanent members to the FirstNet Authority Board will be available for appointment and reappointment in 2021.

DATES: To be considered for the calendar year 2021 appointments, expressions of interest must be electronically transmitted on or before April 5, 2021.

ADDRESSES: Applicants should submit expressions of interest as described below to: Michael Dame, Deputy Associate Administrator, Office of Public Safety Communications, National Telecommunications and Information Administration, by email to FirstNetBoardApplicant@ntia.doc.gov.

FOR FURTHER INFORMATION CONTACT: Michael Dame, Deputy Associate Administrator, Office of Public Safety Communications, National Telecommunications and Information Administration; telephone: (202) 482-1181; email: mdame@ntia.gov. Please direct media inquiries to NTIA's Office of Public Affairs, (202) 482-7002.

SUPPLEMENTARY INFORMATION:

I. Background and Authority

The Middle Class Tax Relief and Job Creation Act of 2012 (Act) created the First Responder Network Authority (FirstNet Authority) as an independent authority within NTIA. The Act charged the FirstNet Authority with ensuring the building, deployment, and operation of a nationwide, interoperable public safety broadband network, based on a single, national network architecture.¹ The FirstNet Authority holds the single nationwide public safety license granted for wireless public safety broadband deployment. The FirstNet Authority Board is responsible for providing overall policy direction and oversight of FirstNet to ensure that the nationwide network continuously meets the needs of public safety.

¹ 47 U.S.C. 1422(b).

II. Structure

The FirstNet Authority Board is composed of 15 voting members. The Act names the Secretary of Homeland Security, the Attorney General of the United States, and the Director of the Office of Management and Budget as permanent members of the FirstNet Authority Board. The Secretary of Commerce (Secretary) appoints the 12 non-permanent members of the FirstNet Authority Board.²

² 47 U.S.C. 1424(b).

The Act requires each Board member to have experience or expertise in at least one of the following substantive areas: Public safety, network, technical, and/or financial.³ Additionally, the composition of the FirstNet Authority Board must satisfy the other requirements specified in the Act, including that: (i) At least three members have served as public safety professionals; (ii) at least three members represent the collective interests of states, localities, tribes, and territories; and (iii) its members reflect geographic and regional, as well as rural and urban, representation.⁴ An individual Board member may satisfy more than one of these requirements. The current non-permanent FirstNet Authority Board members are (noting expiration of term):

³ 47 U.S.C. 1424(b)(2)(B).

⁴ 47 U.S.C. 1424(b)(2)(A).

• Robert Tipton Osterthaler, Board Chair, Business/technology executive, network (Term expired: January 2021)

• Matt Slinkard, Executive Assistant Chief of Police, City of Houston Police Department (Term expired: January 2021)

• David Zolet, CEO, CentralSquare (Term expired: January 2021)

• Vacant (Term expired: January 2021)

• Richard Carrizzo, Board Vice Chair, Fire Chief, Southern Platte Fire Protection District, MO (Term expires: August 2021)

• Neil E. Cox, Telecommunications/technology executive (Term expires: August 2021)

• Brian Crawford, SVP and Chief Administrative Officer for Willis-Knighton Health System/former Fire Chief and municipal government executive (Term expires: August 2021)

• Billy Hewes, Mayor of Gulfport, MS (Term expires: August 2021)

• Edward Horowitz, Venture capital/technology executive (Term expires: August 2021)

• Paul Patrick, Division Director, Family Health and Preparedness, Utah Department of Health (Term expires: August 2021)

• Brigadier General Welton Chase, Retired, U.S. Army, Army Information Technology/CEO, Chase Cyber Consulting (Term expires: September 2021)

• Karima Holmes, Senior Director, ShotSpotter, Inc. (Term expires: August 2022)

Any Board member whose term has expired may serve until such member's successor has taken office, or until the end of the calendar year in which such member's term has expired, whichever is earlier.⁵ Board members will be appointed for a term of three years.⁶ Board members may not serve more than two consecutive full three-year terms.⁷ More information about the FirstNet Authority Board is available at www.firstnet.gov/about/Board.

⁵ 47 U.S.C. 1424(c)(2)(B).

⁶ However, [a]ny member appointed to fill a vacancy occurring prior to the expiration of the term for which that member's predecessor was appointed shall be appointed for the remainder of the predecessor's term. See 47 U.S.C. 1424(c)(2)(C).

⁷ 47 U.S.C. 1424(c)(2)(A)(ii).

III. Compensation and Status as Government Employees

FirstNet Authority Board members are appointed as special government employees. FirstNet Authority Board members are compensated at the daily rate of basic pay for level IV of the Executive Schedule (approximately $172,500 per year) for each day worked on the FirstNet Authority Board.⁸ Each Board member must be a United States citizen, cannot be a registered lobbyist, and cannot be a registered agent of, employed by, or receive payments from, a foreign government.⁹

⁸ 47 U.S.C. 1424(g).

⁹ See Revised Guidance on Appointment of Lobbyists to Federal Advisory Committees, Boards, and Commissions, Office of Management and Budget, 79 FR 47482 (Aug. 13, 2014).

IV. Financial Disclosure and Conflicts of Interest

FirstNet Authority Board members must comply with certain federal conflict of interest statutes and ethics regulations, including some financial disclosure requirements. A FirstNet Authority Board member will generally be prohibited from participating on any particular FirstNet Authority matter that will have a direct and predictable effect on his or her personal financial interests or on the interests of the appointee's spouse, minor children, or non-federal employer.

V. Selection Process

At the direction of the Secretary, NTIA will conduct outreach to the public safety community, state and local organizations, and industry to solicit nominations for candidates to the Board who satisfy the statutory requirements for membership. In addition, the Secretary, through NTIA, will accept expressions of interest from any individual, or from any organization proposing a candidate who satisfies the statutory requirements for membership on the FirstNet Authority Board. To be considered for a calendar year 2021 appointment, expressions of interest must be electronically transmitted on or before April 5, 2021.

All parties submitting an expression of interest should submit the candidate's (i) full name, address, telephone number, email address; (ii) current resume; (iii) statement of qualifications that references how the candidate satisfies the Act's expertise, representational, and geographic requirements for FirstNet Authority Board membership, as described in this Notice; and (iv) a statement describing why the candidate wants to serve on the FirstNet Authority Board, affirming their ability and availability to take a regular and active role in the Board's work.

The Secretary will select FirstNet Authority Board candidates based on the eligibility requirements in the Act and recommendations submitted by NTIA. NTIA will recommend candidates based on an assessment of qualifications as well as demonstrated ability to work in a collaborative way to achieve the goals and objectives of the FirstNet Authority as set forth in the Act. NTIA may consult with FirstNet Authority Board members or executives in making its recommendation. Board candidates will be vetted through the Department of Commerce and are subject to an appropriate background check for security clearance.

Dated: March 1, 2021.
Kathy Smith,
Chief Counsel, National Telecommunications and Information Administration.

[FR Doc. 2021-04473 Filed 3-3-21; 8:45 am]

BILLING CODE 3510-WL-P